DEPARTMENT OF ENERGY

Federal Energy Regulatory Commission

[Docket No. CP99-287-001]

Texas Gas Transmission Corporation; Notice of Amendment

February 8, 2000.

Take notice that on February 4, 2000, pursuant to Section 7(b) of the Natural Gas Act, Texas Gas Transmission Corporation (Texas Gas), P.O. Box 20008, Owensboro, Kentucky 42304, filed in Docket No. CP99-287-001, a Request for Amendment to Abandonment Authorization. Texas Gas requests that the Commission amend its August 26, 1999, Order in the above-captioned proceeding to allow for the abandonment of the White River Storage Field (White River) by Texas Gas by the transfer of its ownership, rather than by retirement in place, as previously approved. Texas Gas' proposal is more fully set forth in the request on file with the Commission and open to public inspection. This request may be viewed on the web at http://www.ferc.us/online/rims.htm (call 202-208-2222 for assistance). Texas Gas's contact person for this request is David N. Roberts, Manager, Certificates and Tariffs, at the above address or phone 270-688-6712.

Texas Gas requests that the Commission amend its previous Order to allow for the abandonment of White River by the transfer of its ownership and operation from Texas Gas to SIGCORP Energy Services, LLC (SIGCORP). In addition, it is requested that the Commission find that after that sale, the ownership and operation of the White River by SIGCORP, or its appointed affiliate, will not be under the Commission's jurisdiction.

Texas Gas says that the transfer of the White River by sale to SIGCORP, rather than an abandonment in place, provides various benefits to itself, its customers, and SIGCROP. This transfer by sale will involve the continued use of the existing field, will eliminate the need to plug various wells (10 injection/withdrawal wells and 4 observation wells), and eliminate the need to abandon about 2.3 miles of 6-inch and 1.5 miles of 2-inch pipeline. Further, Texas Gas will not incur the estimated $501,800 of removal cost. However, due to conveyance of the storage field “as is,” SIGCORP will obtain about 125,365 Mcf of recoverable cushion/base gas originally costing $23,764. Texas Gas says that the net effect of this request is a savings and an overall cost benefit to Texas Gas's customers.

Additionally, Texas Gas says that the transfer of the White River will provide benefits to the parties that would not be possible should the field be abandoned in place. The acquisition of the storage facility by SIGCORP will complement the current firm transportation capacity held by SIGCORP, and allow for a long-term relationship with the parties in order for gas to be delivered and withdrawn as required by the storage inventory. Furthermore, SIGCORP's commercial and industrial customers in the Southern Indiana region shall benefit with additional security and reliability of gas supply through SIGCORP's use of the storage field. (We note that Texas Gas will provide SIGCORP access to two new taps and build a bidirectional meter station under its Blanket Certificate. SIGCORP will be making a contribution-in-aid to construction for this, not to exceed $350,000.)

Texas Gas has been advised that, following SIGCORP's acquisition of the storage facilities, SIGCORP intends to use the additional capacity provided by the White River in support of its provision of retail natural gas services its customers located exclusively within the State of Indiana. Thus, upon acquisition of the White River, SIGCORP believes this facility will no longer be subject to the Commission's jurisdiction.

Any person desiring to be heard or making any protest with reference to said amendment should on or before February 29, 2000, file with the Federal Energy Regulatory Commission, 888 First Street, NE, Washington, DC. 20426, a motion to intervene or a protest in accordance with the requirements of the Commission's Rules of Practice and Procedure (18 CFR 385.214 or 385.211) and the Regulations under the Natural Gas Act (18 CFR 157.10). All protests filed with the Commission will be considered by it in determining the appropriate action to take but will not serve to make the protestants parties to the proceeding. The Commission's rules require that protestors provide copies of their protests to the party or person to whom the protests are directed.

Take further notice that, pursuant to the authority contained in and subject to the jurisdiction conferred upon the Federal Regulatory Commission by Sections 7 and 15 of the NGA and the Commission's Rules of Practice and Procedure, a hearing will be held without further notice before the Commission or its designee on this request if no motion to intervene is filed within the time required herein, if the Commission on its own review of the matter finds that a grant of the request is required by the public convenience and necessity. If a motion for leave to intervene is timely filed, or if the Commission on its own motion believes that a formal hearing is required, further notice of such hearing will be duly given.

David Boergers,
Secretary.

[FR Doc. 00-3317 Filed 2-11-00; 8:45 am]

BILLING CODE 6717-01-M